DEPARTMENT OF ENERGY

Federal Energy Regulatory Commission

[Project No. 14285-000]

Alaska Power Company, Inc.; Notice of Preliminary Permit Application Accepted for Filing and Soliciting Comments, Motions To Intervene, and Competing Applications

On September 12, 2011, Alaska Power Company, Inc., filed an application for a preliminary permit, pursuant to section 4(f) of the Federal Power Act (FPA), proposing to study the feasibility of the Moira Sound Hydroelectric Project (Moira Sound Project or project) to be located on Dickman, Kugel, Aiken, Luelia, and Niblack Creeks; Lake Luelia, Kugel and Aiken Lakes, and seven unnamed lakes near Hollis, on Prince of Wales Island in the Prince of Wales—Hyder Census Area, Alaska. The project as proposed would occupy 10,041 acres, 7,839 acres of which are lands of the Tongass National Forest, managed by the U.S. Forest Service. The sole purpose of a preliminary permit, if issued, is to grant the permit holder priority to file a license application during the permit term. A preliminary permit does not authorize the permit holder to perform any land-disturbing activities or otherwise enter upon lands or waters owned by others without the owners' express permission.

The proposed project would consist of 11 developments, plus support facilities for the project. All proposed facilities are new.

Lower Kugel Development

(a) The Lower Kugel Development would consist of the following: (1) A 300-foot-long, 65-foot-high concrete gravity dam, which would raise the elevation of the existing Kugel Lake from 397 feet mean sea level (msl) to 450 feet msl; (2) a 2,900-foot-long penstock consisting of a 900-foot-long, 5-foot-diameter buried high density polyethylene (HPDE) section and a 2,000-foot-long, 4.5-foot-diameter buried ductile iron section; (3) a 40-foot-long, 60-foot-wide powerhouse containing one 4.1-megawatt (MW) turbine/generator unit with an adjacent 40-foot-long, 40-foot-wide substation; (4) a 30-foot-long tailrace returning flows from the powerhouse to Kugel Creek; (5) three access roads, totaling 1.6 miles in length; (6) a 0.2-mile-long, 69-kV transmission line from the Lower Kugel Development substation to the project substation; and (7) appurtenant facilities.

Middle Kugel Development

(b) The Middle Kugel Development would consist of the following: (1) A 300-foot-long, 40-foot-high concrete-faced rockfill dam, which would raise the elevation of an existing unnamed lake (referred to as Lake 930 in the project application) from 930 feet msl to 960 feet msl; (2) a 6,700-foot-long, 4.5-foot-diameter buried ductile iron penstock; (3) a 40-foot-long, 60-foot-wide powerhouse containing one 4.8-MW turbine/generator unit with an adjacent 40-foot-long, 40-foot-wide substation; (4) a 30-foot-long tailrace returning flows from the powerhouse to Kugel Lake; (5) two access roads, totaling 2.9 miles in length; (6) a 2.2-mile-long, 34.5-kV transmission line from the Middle Kugel Development substation to the project substation; and (7) appurtenant facilities.

Upper Kugel Development

(c) The Upper Kugel Development would consist of the following: (1) A 500-foot-long, 60-foot-high concrete-faced rockfill dam, which would raise the elevation of an existing unnamed lake (referred to as Lake 1125 in the project application) from 1,125 feet msl to 1,175 feet msl; (2) a 1,300-foot-long, 3-foot-diameter buried ductile iron penstock; (3) a 30-foot-long, 50-foot-wide powerhouse containing one 0.9-MW turbine/generator unit with an adjacent 30-foot-long, 40-foot-wide substation; (4) a 30-foot-long tailrace returning flows from the powerhouse to Lake 930; (5) a 0.8-mile-long access road; (6) a 0.5-mile-long, 34.5-kV transmission line from the Upper Kugel Development substation to the Aiken Development substation; and (7) appurtenant facilities.

Aiken Development

(d) The Aiken Development would consist of the following: (1) A 300-foot-long, 40-foot-high concrete-faced rockfill dam, which would raise the elevation of Aiken Lake from approximately 1,119 feet msl to 1,150 feet msl; (2) a 3,500-foot-long penstock consisting of an 800-foot-long, 5-foot-wide, 7-foot-high tunnel section and a 2,700-foot-long, 2.5-foot-diameter buried HPDE section; (3) a 30-foot-long, 50-foot-wide powerhouse containing one 0.4-MW turbine/generator unit with an adjacent 30-foot-long, 50-foot-wide substation; (4) a 30-foot-long tailrace returning flows from the powerhouse to Lake 930; (5) a 2-mile-long access road; (6) a 1.3-mile-long, 34.5-kV transmission line from the Aiken Development substation to the Middle Kugel Development substation; and (7) appurtenant facilities.

Dickman Development

(e) The Dickman Development would consist of the following: (1) A 300-foot-long, 60-foot-high concrete-faced rockfill dam, which would raise the elevation of an existing unnamed lake (referred to as Lake 305 in the project application) from 305 feet msl to 350 feet msl; (2) a 5,200-foot-long penstock consisting of a 3,300-foot-long, 4-foot-diameter buried HPDE section and a 1,900-foot-long, 3.5-foot-diameter buried ductile iron section; (3) a 40-foot-long, 60-foot-wide powerhouse containing one 2.2-MW turbine/generator unit with an adjacent 40-foot-long, 60-foot-wide substation; (4) a 30-foot-long tailrace returning flows from the powerhouse to an unnamed creek (referred to as Dickman Creek in the project application); (5) two access roads, totaling 3.3 miles in length; (6) a 2.4-mile-long, 34.5-kV transmission line from the Dickman Development substation to the project substation; and (7) appurtenant facilities.

Lower Luelia Development

(f) The Lower Luelia Development would consist of the following: (1) A 150-foot-long, 45-foot-high concrete-faced rockfill dam, which would raise the elevation of an existing unnamed lake (referred to as Lake 592 in the project application) from 592 feet msl to 625 feet msl; (2) a 1,500-foot-long penstock consisting of an 800-foot-long, 3.5-foot-diameter buried HPDE section and a 700-foot-long, 3-foot-diameter above-ground steel section; (3) a 40-foot-long, 60-foot-wide powerhouse containing one 2.2-MW turbine/generator unit with an adjacent 40-foot-long, 60-foot-wide substation; (4) a 30-foot-long tailrace returning flows from the powerhouse to Luelia Creek; (5) two access roads, totaling 3.6 miles in length; (6) a 2.3-mile-long, 69-kV transmission line from the Lower Luelia Development substation to the project substation; and (7) appurtenant facilities.

Middle Luelia Development

(g) The Middle Luelia Development would consist of the following: (1) A siphon intake in Lake Luelia; (2) a 1,700-foot-long penstock consisting of a 500-foot-long, 4-foot-diameter buried HPDE section and a 1,200-foot-long, 3.5-foot-diameter above-ground steel section; (3) a 40-foot-long, 60-foot-wide powerhouse containing one 2.3-MW turbine/generator unit with an adjacent 40-foot-long, 60-foot-wide substation; (4) a 30-foot-long tailrace returning flows from the powerhouse to Lake 592; (5) two access roads, totaling 1.2 miles in length; (6) a 1.1-mile-long, 69-kV transmission line from the Middle Luelia Development substation to the Lower Luelia Development substation; and (7) appurtenant facilities.

Upper Luelia Development

(h) The Upper Luelia Development would consist of the following: (1) A 100-foot-long, 10-foot-high concrete gravity dam, which would raise the elevation of an existing unnamed lake (referred to as Lake 1050 in the project application) from 1,050 feet msl to 1,055 feet msl; (2) a 1,100-foot-long, 2.5-foot-diameter buried ductile iron penstock; (3) a 30-foot-long, 50-foot-wide powerhouse containing one 0.4-MW turbine/generator unit with an adjacent 30-foot-long, 50-foot-wide substation; (4) a 20-foot-long tailrace returning flows from the powerhouse to Lake Luelia; (5) two access roads, totaling 1.3 miles in length; (6) a 1.5-mile-long, 69-kV transmission line from the Upper Luelia Development substation to the Middle Luelia Development substation; and (7) appurtenant facilities.

Lower Niblack Development

(i) The Lower Niblack Development would consist of the following: (1) A 250-foot-long, 30-foot-high concrete-faced rockfill dam, which would raise the elevation of Myrtle Lake from 92 feet msl to 110 feet msl; (2) a 900-foot-long, 3-foot-diameter buried HDPE penstock; (3) a 40-foot-long, 60-foot-wide powerhouse containing one 0.4-MW turbine/generator unit with an adjacent 40-foot-long, 60-foot-wide substation; (4) a 30-foot-long tailrace returning flows from the powerhouse to Myrtle Creek; (5) two access roads, totaling 1 mile in length; (6) a 0.7-mile-long, 34.5-kV transmission line from the Lower Niblack Development substation to a substation located at the Niblack Mine; and (7) appurtenant facilities.

Middle Niblack Development

(j) The Middle Niblack Development would consist of the following: (1) A 1,100-foot-long, 50-foot-high concrete-faced rockfill dam, which would raise the elevation of an existing unnamed lake (referred to as Lake 630 in the project application) from 630 feet msl to 670 feet msl; (2) a 3,400-foot-long, 3-foot-diameter ductile iron penstock, installed within an access tunnel; (3) a 40-foot-long, 60-foot-wide powerhouse containing one 2.1-MW turbine/generator unit with an adjacent 40-foot-long, 40-foot-wide substation; (4) a 20-foot-long tailrace returning flows from the powerhouse to Myrtle Lake; (5) two access roads, totaling 2.6 miles in length; (6) a 1.3-mile-long, 69-kV transmission line from the Middle Niblack Development substation to the Lower Niblack Development substation; and (7) appurtenant facilities.

Upper Niblack Development

(k) The Upper Niblack Development would consist of the following: (1) A 100-foot-long, 10-foot-high concrete gravity dam, which would raise the elevation of an existing unnamed lake (referred to as Lake 1300 in the project application) from 1,300 feet msl to 1,305 feet msl; (2) a 3,100-foot-long penstock, which would include a 900-foot-long, 1.5-foot-diameter HDPE section and a 2,200-foot-long, 1.5-foot-diameter above-ground steel section; (3) a 30-foot-long, 50-foot-wide powerhouse containing one 0.6-MW turbine/generator unit with an adjacent 30-foot-long, 50-foot-wide substation; (4) a 20-foot-long tailrace returning flows from the powerhouse to Lake Luelia; (5) a 1.3-mile-long access road; (6) a 1.5-mile-long, 69-kV transmission line from the Upper Niblack Development substation to the Upper Luelia Development substation and the Middle Luelia Development substation; and (7) appurtenant facilities.

(l) The support facilities for the project would consist of the following: (1) A marine access facility located on the shore of Dickman Bay, which would include a barge landing, a boat ramp, and a boat/seaplane dock; (2) a construction camp/staging area/maintenance facility, which would include two residences for maintenance personnel, and a garage/shop building; (3) a project substation located in the construction camp/staging area/maintenance facility; (4) a 13.4-mile-long, 69-kilovolt (kV) transmission line to transmit power from the project substation to the Bokan Mountain mine; and (5) appurtenant facilities.

The total proposed generating capacity of the Moira Sound Project would be 20.4 MW, with an estimated annual generation of 79.7 gigawatt-hours.

Applicant Contact: Mr. Robert S. Grimm, CEO/President, Alaska Power Company, Inc., c/o Alaska Power & Telephone Company, P.O. Box 3222, Port Townsend, WA 98368; phone: (360) 385-1733.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp.

Enter the docket number (P-14285-000) in the docket number field to access the document. For assistance, contact FERC Online Support.

Dated: October 12, 2011.
Kimberly D. Bose,
Secretary.

[FR Doc. 2011-26982 Filed 10-18-11; 8:45 am]

BILLING CODE 6717-01-P